FEDERAL COMMUNICATIONS COMMISSION

Public Information Collections Approved by Office of Management and Budget

March 18, 2002.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-1005.

Expiration Date: 07/31/2002.

Title: Numbering Resource Optimization—Phase 3.

Form No.: N/A.

Respondents: Business or other for-profit; State, Local or Tribal Government.

Estimated Annual Burden: 53 respondents; 63.7 hour per response (avg.); 3380 total annual burden hours (for all collections under this control number).

Estimated Annual Reporting and Recordkeeping Cost Burden: $12,000.

Frequency of Response: On occasion; Third Party Disclosure.

Description: In the Communications Act of 1934, as amended by the Telecommunications Act of 1996, the Federal Communications Commission (Commission) was given “exclusive jurisdiction over those portions of the North American Numbering Plan that pertain to the United States.” Pursuant to that authority, the Commission conducted a rulemaking that, among other things, addressed regular reporting on numbering use by United States carriers. In the Third Report and Order and Second Order on Reconsideration in CC Docket No. 96-98 and CC Docket No. 99-200 (Third Report and Order), the Commission addresses the federal cost recovery mechanism, including the requirement for price cap carriers to file tariffs reflecting recovery through an exogenous recovery adjustment for a two-year period beginning April 2, 2002.

A. Reporting Requirements for Federal Cost Recovery

Section 251(e)(2) of the Act requires that “[t]he cost of establishing telecommunications numbering administration arrangements and number portability shall be borne by all telecommunications carriers on a competitively neutral basis as determined by the Commission.” This statutory provision applies both to the costs of numbering administration and to the costs of Local Number Portability (LNP). In the Third Report and Order, the Commission establishes a federal cost recovery mechanism under which price cap LECs may recover their extraordinary carrier-specific costs directly related to thousands-block number pooling through an exogenous adjustment to access charges. However, because thousands-block number pooling may actually reduce network costs, in order for carriers to qualify for the exogenous adjustment to access charges, the Commission requires them to demonstrate that pooling results in a net cost increase rather than a cost reduction. (No. of respondents: 18; hours per response: 85 hours; total annual burden: 1530 hours).

B. Request for Safety Valve Mechanism by State Commission

In the Third Report and Order, the Commission established a safety valve to ensure that carriers experiencing rapid growth in a given market will be able to meet customer demand. States may use the safety valve to grant requests from carriers that demonstrate the following: (1) The carrier will exhaust its numbering resources in a market or rate area within three months (in lieu of 6 months-to-exhaust requirement); and (2) projected growth is based on the carrier's actual growth in the market or rate area, or in the carrier's actual growth in a reasonably comparable market, but only if that projected growth varies no more than 15 percent from historical growth in the relevant market. States may also grant relief if a carrier demonstrates that it has received a customer request for numbering resources in a given rate center that it cannot meet with its current inventory. Carriers may demonstrate such a need by providing the state with documentation of the customer request and current proof of utilization in the rate center. (No. of respondents: 15; hours per response: 50 hours; total annual burden: 750 hours).

C. Request for Delegated Authority To Implement Service-Specific and Technology-Specific Area Code Overlays

The Commission lifted the ban on service-specific and technology-specific overlays (collectively, specialized overlays or SOs) and will allow state commissions seeking to implement SOs to request delegated authority to do so on a case-by-case basis. State commission seeking to implement service-specific and/or technology-specific area code overlays, must request delegated authority to do so. As an initial matter, a state commission seeking to implement a SO should discuss why the numbering resource optimization benefits of the proposed SO would be superior to implementation of an all-services overlay. State commissions should also specifically address the following: (1) The technologies or services to be included in the SO; (2) the geographic area to be covered; (3) whether the SO will be transitional; (4) when the SO will be implemented and, if a transitional SO is proposed, when the SO will become an all-services overlay; (5) whether the SO will include take-backs; (6) whether there will be 10-digit dialing in the SO and the underlying area code(s); (7) whether the SO and underlying area code(s) will be subject to rationing; and (8) whether the SO will cover an area in which pooling is taking place. (No. of respondents: 20; hours per response: 55 hours; total annual burden: 1100 hours). Data from such reporting will be used by the Commission to determine whether carriers properly qualified for the exogenous adjustment to access charges because pooling resulted in a net cost increase. Obligation to respond: Required to obtain or retain benefits.

OMB Control No.: 3060-0470.

Expiration Date: 03/31/2005.

Title: 47 CFR Sections 64.901-64.903, Allocation of Cost, Cost Allocation Manual and RAO Letters 19 and 26.

Form No.: N/A.

Respondents: Business or other for-profit.

Estimated Annual Burden: 5 respondents; 400 hour per response (avg.); 2000 total annual burden hours (for all collections under this control number).

Estimated Annual Reporting and Recordkeeping Cost Burden: $0.

Frequency of Response: On occasion; Annually.

Description: Section 201(b) of the Communications Act of 1934, as amended, requires that common carriers establish just and reasonable charges, practices and regulation for the services they provide; the Commission is responsible for regulating the telecommunications industry and ensuring that common carriers abide by its mandate. Pursuant to Section 64.901 carriers are required to separate their regulated costs from nonregulated cost using the attributable cost method of cost allocation. Carriers must follow the principles described in Section 64.901. Section 64.903(a) requires local exchange carriers with annual operating revenues equal to or above the indexed revenue threshold as defined in 47 CFR 32.9000 to file a cost allocation manual, except mid-sized incumbent local exchange carriers, containing the information specified in Section 64.903(a)(1)-(6). Section 64.903(b) requires that carriers update their cost allocation manuals at least annually, except that changes to the cost apportionment table and the description of time reporting procedures must be filed at the time of implementation. Proposed changes in the description of time reporting procedures, the statement concerning affiliate transactions, and the cost apportionment table must be accompanied by a statement quantifying the impact of each change on regulated operations. Changes in the description of time reporting procedures and the statement concerning affiliate transactions must be quantified in $100,000 increments at the account level. Changes in the cost apportionment table must be quantified in $100,000 increments at the cost pool level. Moreover, filing of cost allocation manuals and occasional updates are subject to the uniform format and standard procedures specified in RAO Letter 19. RAO Letter 26 provides guidance to carriers in revising their CAMS to reflect changes to the affiliate transactions rules pursuant to the Accounting Safeguards Order. In CC Docket No. 01-199, the Commission eliminated the annual CAM updates and filing of other changes for mid-sized carriers. While mid-sized carriers no longer will be required to annually file a CAM, they, like all other carriers, must be prepared to produce documentation of how they separate regulated from nonregulated costs to the Bureau, upon request. The cost allocation manual is reviewed by the Commission to ensure that all costs are properly classified between regulated and nonregulated activity. Uniformity in the CAMs will help improve the joint cost allocation process. In addition, this uniformity will give the Commission greater reliability in financial data submitted by the carriers through the Automated Reporting Management Information System (ARMIS). Obligation to respond: Mandatory.

OMB Control No.: 3060-0384.

Expiration Date: 03/31/2005.

Title: Auditor's Attestation and Certification—Sections 64.904 and 64.905.

Form No.: N/A.

Respondents: Business or other for-profit.

Estimated Annual Burden: 12 respondents; 107.08 hour per response (avg.); 1285 total annual burden hours (for all collections under this control number).

Estimated Annual Reporting and Recordkeeping Cost Burden: $1,200,000.

Frequency of Response: On occasion; Annually; Biennially.

Description: Section 201(b) of the Communications Act of 1934, as amended, requires that common carriers establish just and reasonable charges, practices, and regulations for the service they provide. The Commission is responsible for regulating the telecommunications industry and ensuring that common carriers abide by its mandate. Since common carriers are allowed to provide non-common carrier services, the Commission must establish mechanisms to control cost shifting, inhibiting carriers from imposing on ratepayers for regulated interstate services the costs and risks of nonregulated ventures. Pursuant to section 64.904(a), each incumbent local exchange carrier required to file a cost allocation manual shall elect to either (1) have an attest engagement performed by an independent auditor every two years, covering the prior two year period, or (2) have a financial audit performed by an independent auditor every two years, covering the prior two year period. In either case, the initial engagement shall be performed in the calendar year after the carrier is first required to file a cost allocation manual. See 47 CFR 64.904 (a)-(c). In CC Docket 00-199, the Commission eliminated the requirement that CAMs of mid-sized carriers be subject to an attest audit every two years. Instead of requiring mid-sized carriers to incur the expense of a biennial attestation engagement, they will file a certification with the Commission stating that they are complying with section 64.901 of the Commission's rules. The certification must be signed, under oath, by an officer of the incumbent LEC, and filed with the Commission on an annual basis. Such certification of compliance represents a less costly means of enforcing compliance with our cost allocation rules. See 47 CFR Section 64.905. The independent audit requirement is imposed to ensure that the carriers are properly implementing their cost allocation manual. The independent audits serve as an important aid in the Commission's monitoring program. Obligation to respond: Required to obtain or retain benefits.

OMB Control No.: 3060-0734.

Expiration Date: 03/31/2005.

Title: Accounting Safeguards, CC Docket No. 96-150 (47 U.S.C. Sections 260, 271-276 and 47 CFR Sections 53.209, 53.211 and 53.213).

Form No.: N/A.

Respondents: Businesses or other for-profit.

Estimated Annual Burden: 27 respondents; 4587.37 hours per response (avg.); 123,859 total annual burden hours.

Estimated Annual Reporting and Recordkeeping Cost Burden: $632,500.

Frequency of Response: On occasion; Biennially; Annually; Recordkeeping; Third Party Disclosure.

Description: In a Report and Order issued in CC Docket No. 96-150, the Commission addressed the accounting safeguards necessary to satisfy the requirements of Sections 260 and 271 through 276 of the Telecommunications Act of 1996. The Report and Order prescribed the way incumbent local exchange carriers (ILECs), including the Bell Operating Companies (BOCs), must account for transactions with affiliates involving, and allocate costs incurred in the provision of, both regulated telecommunications services and nonregulated services, including telemessaging, interLATA telecommunications and information services, telecommunications equipment and CPE manufacturing and others. In CC Docket No. 00-199, the Commission adopted a $500,000 threshold for transactions involving asset transfers. The $500,000 threshold represents a de minimus exception to the affiliate transaction fair market valuation rules. Carriers are still required to follow the affiliate transactions rules in recordkeeping these transactions in their books of accounts, however, they will not have to make the comparison between fair market value and fully distributed costs. The required information enables the Commission to ensure that the subscribers to regulated telecommunications services to not bear the costs of these new nonregulated services and that transactions between affiliates and carriers will be at prices that do not ultimately result in unfair rates being charged to ratepayers. Obligation to respond: Mandatory.

OMB Control No.: 3060-0370.

Expiration Date: 03/31/2005.

Title: Part 32—Uniform System of Accounts for Telecommunications Companies.

Form No.: N/A.

Respondents: Business or other for-profit.

Estimated Annual Burden: 239 respondents; 6,123.41 hour per response (avg.); 1,463,496 total annual burden hours (for all collections under this control number).

Estimated Annual Reporting and Recordkeeping Cost Burden: $0.

Frequency of Response: On occasion; Recordkeeping.

Description: Section 220 of the Communications Act of 1934, as amended, 47 U.S.C. 220, allows the Commission, in its discretion, to prescribe the forms of any and all accounts, records, and memoranda to be kept by carriers subject to this Act, including the accounts, records and memoranda of the movement of traffic, as well as of the receipts and expenditures of moneys. Section 219(b) of the Communications Act, as amended, 47 U.S.C. 219(b), authorizes the Commission by general or special orders to require any carrier subject to this Act to file monthly reports of earnings and expenses and to file periodical and/or special reports concerning any matters with respect to which the Commission authorized or required by law to act. The Uniform System of Accounts is a historical financial accounting system which reports the results of operational and financial events in a manner which enables both management and regulators to assess these results within a specified accounting period. Subject respondents are telecommunications companies. Entities having annual revenues from regulatory telecommunications operations of less than $114 million are designated as Class B and are subject to a less detailed accounting system than those designated as Class A companies. See 47 CFR part 32. In CC Docket No. 00-199, the Commission conducted its second comprehensive, biennial review of the accounting rules and the Automated Reporting Management Information System (ARMIS) reporting requirements that apply to incumbent local exchange carriers (LECs). The Commission made four major accounting and reporting reforms. The Commission substantially consolidated and streamlined Class A and reduced Class B accounting requirements; relaxed certain aspects of its affiliate transactions rules; significantly reduced the cost of regulatory compliance with its cost allocation rules for mid-sized carriers; and reduced the ARMIS reporting requirements for both large and mid-sized LECs. Obligation to respond: Mandatory.

Public reporting burden for the collections of information are as noted above. Send comments regarding the burden estimates or any other aspect of the collections of information, including suggestions for reducing the burden to Performance Evaluation and Records Management, Washington, DC 20554.

Federal Communications Commission.
William F. Caton,
Acting Secretary.

[FR Doc. 02-7017 Filed 3-22-02; 8:45 am]

BILLING CODE 6712-01-P